DEPARTMENT OF TRANSPORTATION

Federal Motor Carrier Safety Administration

Sunshine Act Meetings; Unified Carrier Registration Plan Board of Directors

AGENCY: Federal Motor Carrier Safety Administration (FMCSA), DOT.

ACTION: Notice of Unified Carrier Registration Plan Board of Directors' Meeting.

TIME AND DATE: The meeting will be held on March 28, 2019, from 12:00 noon to 3:00 p.m., Eastern Daylight Time.

PLACE: This meeting will be open to the public via conference call. Any interested person may call 1-866-210-1669, passcode 5253902#, to listen and participate in this meeting.

STATUS: Open to the public.

MATTERS TO BE CONSIDERED: The Unified Carrier Registration Plan Board of Directors (the Board) will continue its work in developing and implementing the Unified Carrier Registration Plan and Agreement. The subject matter of the meeting will include:

Review & Approval of Agenda & Setting of Ground Rules

• Motion to approve 3/28 UCR Board agenda

• Ground rules

Approval of Minutes of the January 29, 2019 UCR Board Meeting

Critical Issues

• Memo to Board re: Sunshine Act compliance & governance best practices

Discussion & possible Board action:

○ Adopt memo

• New amendments to UCR Agreement—Avelino Gutierrez

Discussion & possible Board action:

○ Adopt amendments

○ Update: Revised 2020-2021 UCR Fee Recommendation

• Revised 2019 Budget

Discussion & possible Board action:

○ Approve revised 2019 budget

• Recommended Modification to UCR State Carrier Audit Instructions

Discussion & possible Board action:

○ Approve new instruction to states: Close FARs prior to conducting misc. audits of MCS-150 retreats

• 2019 UCR Registration Period

○ REMINDER: Enforcement date is April 1

Updates Concerning UCR Legislation

Report of FMCSA

Contractor Reports

• UCR Administrator (Kellen)

• DSL Transportation Services, Inc.

• Seikosoft

Subcommittee Reports

• Audit Subcommittee

○ Discuss substandard state annual audit reports

• Finance Subcommittee

○ Potential timeframes for initial state distributions for 2019

○ Status of procuring Certificates of Deposit from Bank of North Dakota

○ Status of funding the DLA account

○ Update on refunds

○ Status of reconciling and closing the 2017 registration year

• Registration System Subcommittee

○ Announcement of subcommittee leadership change

• Education & Training Subcommittee

Discussion & possible Board action:

○ Approve proposed travel budget for subcommittee meetings

• Procedures Subcommittee

• Industry Advisory Subcommittee

Old/New Matters Future UCR Meetings

A detailed agenda for this meeting will be available no later than 5:00 p.m. Eastern Daylight Time, March 18, 2019 at: https://ucrplan.org.

CONTACT PERSON FOR MORE INFORMATION: Mr. Avelino Gutierrez, Chair, Unified Carrier Registration Board of Directors at (505) 827-4565.

Issued on: March 18, 2019.
Larry W. Minor,
Associate Administrator, Office of Policy, Federal Motor Carrier Safety Administration.

[FR Doc. 2019-05518 Filed 3-19-19; 4:15 pm]

BILLING CODE 4910-EX-P